DEPARTMENT OF STATE

[Public Notice: 9434]

60-Day Notice of Proposed Information Collection: Office of Language Services Contractor Application

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to April 5, 2016.

ADDRESSES: You may submit comments by any of the following methods:

• Web: Persons with access to the Internet may comment on this notice by going to www.Regulations.gov. You can search for the document by entering “Docket Number: DOS-2016-0002” in the Search field. Then click the “Comment Now” button and complete the comment form.

• Email: LSApplications@state.gov.

• Regular Mail: Send written comments to: Department of State, Office of Language Services SA-1, Fourteenth Floor, 2401 E Street NW., Washington, DC 20522.

You must include the DS form number, information collection title, and the OMB control number in any correspondence.

FOR FURTHER INFORMATION CONTACT: Direct requests for additional information regarding the collection listed in this notice, including requests for copies of the proposed collection instrument and supporting documents, to David Record at 2401 E Street NW., Fourteenth Floor, Washington, DC 20522, who may be reached on 202-261-8800 or at RecordDM1@state.gov.

SUPPLEMENTARY INFORMATION: • Title of Information Collection: Office of Language Services Contractor Application

• OMB Control Number: 1405-0191

• Type of Request: Revision of a Currently Approved Collection

• Originating Office: Bureau of Administration (A/OPR/LS)

• Form Number: DS-7651

• Respondents: General Public Applying for Translator and/or Interpreter Contract Positions

• Estimated Number of Respondents: 700

• Estimated Number of Responses: 700

• Average Time per Response: 30 minutes

• Total Estimated Burden Time: 350 hours

• Frequency: On Occasion

• Obligation To Respond: Voluntary

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The information collected is needed to ascertain whether respondents are valid interpreting and/or translating candidates, based on their work history and legal work status in the United States. If candidates successfully become contractors for the U.S. Department of State, Office of Language Services, the information collected is used to initiate security clearance background checks and for processing payment vouchers. Respondents are typically members of the general public with varying degrees of experience in the fields of interpreting and/or translating.

Methodology: OLS makes the “Office of Language Services Contractor Application Form” available via the OLS Internet site. Respondents can submit it via email.

Dated: January 20, 2016.
Thomas F. Hufford,
Director, Office of Language Services, Department of State.

[FR Doc. 2016-02307 Filed 2-4-16; 8:45 am]

BILLING CODE 4710-24-P